DEPARTMENT OF HEALTH AND HUMAN SERVICES

Health Resources and Services Administration

Advisory Council; Notice of Meeting

In accordance with section 10(a)(2) of the Federal Advisory Committee Act (Public Law 92-463), announcement is made of the following National Advisory body scheduled to meet during the month of June 2002.

Name: National Advisory Council on the National Health Service Corps.

Dates and Times: June 6, 2002; 5 p.m.-7 p.m.; June 7, 2002; 8:30 a.m.-5 p.m.; June 8, 2002; 9 a.m.-5:30 p.m.; June 9, 2002; 8 a.m.-10:30 a.m.

Place: Sheraton Columbia Hotel, 10207 Wincopin Circle, Columbia, MD 21044-3408, (410) 730-3900.

The meeting is open to the public.

Agenda: The agenda will focus on goals set by the Council during the March 2002 meeting and the development of a set of recommendations for the management team from the Agency and the Bureau of Health Professions regarding the Administration's vision and goals for the National Health Service Corps and the designation of health professional shortage areas.

For further information contact: Tira Robinson, Division of National Health Service Corps, at (301) 594-4140.

Agenda items and times are subject to change as priorities dictate.

Dated: May 23, 2002.
Jane M. Harrison,
Director, Division of Policy Review and Coordination.

[FR Doc. 02-13462 Filed 5-29-02; 8:45 am]

BILLING CODE 4165-15-P